DEPARTMENT OF THE TREASURY

Financial Crimes Enforcement Network

Agency Information Collection Activities; Proposed Renewal; Comment Request; Renewal Without Change of Additional Records To Be Made and Retained by Casinos

AGENCY: Financial Crimes Enforcement Network (FinCEN), Treasury.

ACTION: Notice and request for comments.

SUMMARY: As part of its continuing effort to reduce paperwork and respondent burden, FinCEN invites comments on the proposed renewal, without change, of a currently approved information collection found in existing Bank Secrecy Act regulations. Specifically, the regulations require casinos to secure and maintain a record of the name, permanent address, and social security number of each person who deposits funds or opens an account at the casino, or to whom the casino extends a line of credit. The regulations also require that casinos retain originals or copies of specified documents relating to account and transaction records. Although no changes are proposed to the information collections themselves, this request for comments covers a future expansion of the scope of the annual hourly burden and cost estimate associated with these regulations. This request for comments is made pursuant to the Paperwork Reduction Act of 1995.

DATES: Written comments are welcome, and must be received on or before April 18, 2022.

ADDRESSES: Comments may be submitted by any of the following methods:

• Federal E-rulemaking Portal: http://www.regulations.gov. Follow the instructions for submitting comments. Refer to Docket Number FINCEN-2022-0004 and the specific Office of Management and Budget (OMB) control number 1506-0054.

• Mail: Policy Division, Financial Crimes Enforcement Network, P.O. Box 39, Vienna, VA 22183. Refer to Docket Number FINCEN-2022-0004 and OMB control number 1506-0054.

Please submit comments by one method only. Comments will be reviewed consistent with the Paperwork Reduction Act of 1995 and applicable OMB regulations and guidance. Comments submitted in response to this notice will become a matter of public record. Therefore, you should submit only information that you wish to make publicly available.

FOR FURTHER INFORMATION CONTACT: The FinCEN Regulatory Support Section at 1-800-767-2825 or electronically at frc@fincen.gov.

SUPPLEMENTARY INFORMATION:

I. Statutory and Regulatory Provisions

The legislative framework generally referred to as the Bank Secrecy Act (BSA) consists of the Currency and Financial Transactions Reporting Act of 1970, as amended by the Uniting and Strengthening America by Providing Appropriate Tools Required to Intercept and Obstruct Terrorism Act of 2001 (USA PATRIOT Act), Public Law 107-56 (October 26, 2001), and other legislation, including most recently the Anti-Money Laundering Act of 2020 (AML Act).¹ The BSA is codified at 12 U.S.C. 1829b, 12 U.S.C. 1951-1959, 31 U.S.C. 5311-5314 and 5316-5336, and notes thereto, with implementing regulations at 31 CFR chapter X.

¹ The AML Act was enacted as Division F, §§ 6001-6511, of the William M. (Mac) Thornberry National Defense Authorization Act for Fiscal Year 2021, Public Law 116-283, 134 Stat 3388 (2021).

The BSA authorizes the Secretary of the Treasury (the Secretary), inter alia, to require financial institutions to keep records and file reports that are determined to have a high degree of usefulness in criminal, tax, and regulatory matters, or in the conduct of intelligence or counter-intelligence activities to protect against international terrorism, and to implement AML programs and compliance procedures.² Regulations implementing the BSA appear at 31 CFR chapter X. The authority of the Secretary to administer the BSA has been delegated to the Director of FinCEN.³

² Section 358 of the USA PATRIOT Act added language expanding the scope of the BSA to intelligence or counter-intelligence activities to protect against international terrorism. Section 6101 of the AML Act added language further expanding the scope of the BSA but did not amend these longstanding purposes.

³ Treasury Order 180-01 (re-affirmed Jan. 14, 2020).

With respect to each deposit, account, or line of credit, 31 CFR 1021.410(a) requires a casino to secure and maintain a record of the name, permanent address (“address”), and social security number (SSN) of the person involved at the time the funds are deposited, the account is opened, or credit is extended.⁴ Where the deposit, account, or line of credit is in the name of two or more persons, the casino must secure the name, address, and SSN of each person having a financial interest in the deposit, account, or line of credit. The casino is required to verify the name and address of such person(s) at the time the deposit is made, the account is opened, or credit is extended, by the examination of a document as described in 31 CFR 1010.312.⁵ The specific identifying information relied upon must be recorded by the casino in the manner described in 31 CFR 1010.312.⁶ If a casino is unable to secure the required SSNs, the casino will not be deemed to be in violation of 31 CFR 1021.410 if the casino has made reasonable efforts to secure the SSNs and it maintains a list of the names and addresses of those persons from whom the casino was unable to obtain the SSNs. The casino must make the list available to the Secretary upon request. If a person is a nonresident alien, the casino is also required to record the person's passport number or a description of another government document used to verify his/her identity.

⁴ References to “casinos” include both “casinos” and “card clubs,” as those terms are defined at 31 CFR 1010.100(t)(5) and (6).

⁵ In October 2021, FinCEN granted limited exceptive relief to allow casinos and card clubs to use suitable non-documentary methods to verify the identity of online customers. See FIN-2021-R001, “Exceptive Relief for Casinos from Certain Customer Identity Verification Requirements,” (October 19, 2021), available at https://www.fincen.gov/sites/default/files/2021-10/Casino%20Exceptive%20Relief%20101921_0.pdf.

⁶ 31 CFR 1010.312 requires verification of identity by examination of a document generally accepted within the banking community as a means of identification when cashing checks for non-depositors. The document relied upon for verification must be recorded.

Under 31 CFR 1021.410(b), a casino must retain either the original or a copy of each of the following:

• A record of each time the casino receives funds for credit to or deposit into any person's account, including the name, address, and SSN of the person from whom the casino receives the funds, the date of receipt of the funds and the amount received. If the person from whom the funds were received is a non-resident alien, the casino is required to obtain and record the person's passport number or a description of another government document used to verify the person's identity;

• A record of each bookkeeping entry made to a customer's deposit or credit account with the casino;

• Each statement, ledger card, or other record of each deposit or credit account with the casino, showing each transaction in or with respect to a customer's account with the casino;

• A record of each extension of credit in excess of $2,500, the terms and conditions of each such extension of credit, and repayments. The record must include the customer's name, address, SSN, and the date and amount of the transaction (including repayments). If the credit is extended to a non-resident alien, the casino must obtain and record the non-resident alien's passport number or a description of another government document used to verify identity;

• A record of each advice, request or instruction received or given by the casino with respect to a transaction involving a person, account, or place outside the United States. If the transaction is a transfer outside the United States on behalf of a third party, the record must include the third party's name, address, SSN, signature, and the date and amount of the transaction. If the transaction is a transfer received from outside the United States on behalf of a third party, the same records must be obtained with regard to the third party;

• Records prepared or received by the casino in the ordinary course of business that would be needed to reconstruct a person's deposit or credit account with the casino or that would be needed to trace a check deposited with the casino through the casino's records to the bank of deposit;

• All records, documents, or manuals required to be maintained by a casino under state and local laws or regulations, and regulations of any governing Indian tribe or tribal government;

• All records which are prepared or used by a casino to monitor a customer's gaming activity;

• A separate record containing a list of each transaction between the casino and its customers involving the following types of instruments having a face value of $3,000 or more: (i) Personal checks; (ii) business checks; (iii) official bank checks; (iv) cashier's checks; (v) third-party checks; (vi) promissory notes; (vii) traveler's checks; and (viii) money orders. The list must contain the time, date, and amount of the transaction; the name and address of the customer; the type of instrument; the name of the drawee or issuer of the instrument; all reference numbers (e.g., casino account number, personal check number, etc.); and the name or casino license number of the casino employee who conducted the transaction. A casino must place applicable transactions on the list in the chronological order in which they occur;

• A copy of the compliance program described in 31 CFR 1021.210(b); ⁷ and

⁷ 31 CFR 1021.410(b)(10) requires each casino to retain a copy of the casino's AML compliance program as described in 31 CFR 1021.210(b). The burden for casinos to comply with 31 CFR 1021.210 is accounted for and renewed with OMB control number 1506-0051. For that reason, FinCEN does not need to estimate burden in this notice related to 31 CFR 1021.410(b)(10). See 85 FR 83676, Dec. 22, 2020, for the most recent renewal of OMB control number 1506-0051.

• For card clubs only,⁸ records of all currency transactions by customers, including, without limitation, records in the form of currency transaction logs and multiple currency transaction logs, and records of all activity at cages or similar facilities, including cage control logs.

⁸ 31 CFR 1010.100(t)(5)(iii) clarifies that any reference to casino in chapter X, other than in paragraph (t)(5) and (t)(6) of 31 CFR 1010.100, shall also include reference to a card club, unless the provision in question contains specific language varying its application to card clubs or excluding card clubs.

Under 31 CFR 1021.410(c), casinos that input, store, or retain, in whole or in part, for any period of time, any record required to be maintained by 31 CFR 1010.410 or 31 CFR 1021.410 on computer disk, tape, or other machine-readable media must retain those records in the same format.⁹ All indexes, books, programs, record layouts, manuals, formats, instructions, file descriptions, and similar materials that would enable a person to readily access and review the records described in 31 CFR 1010.410 and 31 CFR 1021.410, and that are recorded, stored, or retained on computer disk, tape or other machine-readable media, must be retained for the period of time such records are required to be retained.¹⁰

⁹ In addition to 31 CFR 1021.410, casinos are required to collect and retain information related to transmittals of funds pursuant to 31 CFR 1010.410. The burden for financial institutions to comply with 31 CFR 1010.410 is included in OMB control number 1506-0058. OMB control number 1506-0058 was renewed in 2021, following a notice and request for comment published in the Federal Register (See 85 FR 84105, Dec. 23, 2020). In the notice, FinCEN stipulated that although 31 CFR 1010.410 applies to all financial institutions, only certain financial institutions engage in the types of transactions described in 31 CFR 1010.410. Casino are one of the types of financial institutions that do not typically engage in the types of transactions described in 31 CFR 1010.410. Any similar type of transaction conducted by a casino is generally covered under 31 CFR 1021.410.

¹⁰ Pursuant to 31 CFR 1010.430(d), covered financial institutions, including casinos, are required to maintain records of certain financial transactions for a period of five years.

II. Paperwork Reduction Act of 1995 (PRA) ¹¹

¹¹ Public Law 104-13, 44 U.S.C. 3506(c)(2)(A).

Title: Additional records to be made and retained by casinos (31 CFR 1021.410).

OMB Control Number: 1506-0054.

Report Number: Not applicable.

Abstract: FinCEN is issuing this notice to renew the OMB control number for regulations requiring additional records to be made and retained by casinos.

Affected Public: Businesses or other for-profit institutions.

Type of Review:

• Renewal without change of a currently approved information collection.

• Propose for review and comment a renewal of the portion of the PRA burden that has been subject to notice and comment in the past (the “traditional annual PRA burden”).

• Propose for review and comment a future expansion of the scope of the PRA burden (the “supplemental annual PRA burden”).

Frequency: As required.

Estimated Number of Respondents: 993 casinos.¹²

¹² Table 1 below sets forth a breakdown of the types of casinos covered by this notice.

Estimated Recordkeeping Burden: In Part 1 of this notice, FinCEN describes the breakdown of the estimated number of casinos, by type. In Part 2, FinCEN proposes for review and comment a renewal of the estimate of the traditional annual PRA hourly burden, which includes a scope and methodology similar to that used in the past, with the incorporation of a more robust cost estimate. The scope and methodology used in the past assigned a single combined total annual hourly burden estimate, per casino, to multiple recordkeeping requirements within the regulations. In Part 3, FinCEN proposes for review and comment a methodology to estimate the hourly burden and the cost of a future estimate of a supplemental annual PRA burden that includes the burden and cost broken down by each unique type of recordkeeping requirement covered by the regulations being renewed. The methodology also includes identifying estimates of the number of transactions conducted annually, per casino that would trigger each unique recordkeeping requirement. Finally, in Part 4, FinCEN solicits input from the public about: (a) The accuracy of the estimate of the traditional annual PRA burden; (b) the method proposed to be more granular in the calculation of burden per unique recordkeeping requirement, within the regulations, to establish a future supplemental annual PRA burden; (c) the criteria, metrics, and most appropriate questions FinCEN should consider when researching the information to estimate the future traditional and supplemental annual PRA burden, according to the methodology proposed; and (d) any other comments about the regulation and the current and proposed future hourly burden and cost estimates of these requirements.

Part 1. Breakdown of the Casinos Covered by This Notice

The breakdown of casinos, by type, covered by this notice is reflected in Table 1 below:

Table 1—Breakdown of Casinos Covered by This Notice, by Type of Casino
Type of casino | Number of casinos
Casino | ¹³ 466
Tribal casino | ¹⁴ 527
Total number of casinos | ¹⁵ 993

Part 2. Traditional Annual PRA Burden and Cost

(a) 31 CFR 1021.410(a) and (b)(1)-(9) ¹⁶

Each casino must secure and maintain a record of the name, address, and SSN of each person who deposits funds, opens an account, or obtains a line of credit with the casino. Each casino must verify and document verification of this information. If a casino is unable to obtain SSNs for any of these transactions after making a reasonable effort to do so, the casino must maintain a list of the names and addresses of persons from whom the casino was unable to obtain SSNs, to be made available to the Secretary of Treasury upon request.

¹³ According to the numbers provided to FinCEN by the American Gaming Association (AGA), there are 466 commercial class casinos as of October 20, 2020.

¹⁴ According to the numbers provided to FinCEN by the AGA, there are 527 tribal properties as of October 20, 2020.

¹⁵ According to numbers provided to FinCEN by the AGA, the total number of casinos includes 223 commercial and tribal casinos in Nevada as of October 20, 2020. This number does not include restricted locations, i.e., those with 15 slot machines or fewer. See also supra note 8. FinCEN does not have a source to estimate the number of card clubs impacted by 31 CFR 1021.410, therefore, the number of card clubs is not included in the total estimated number of casinos.

¹⁶ See supra note 7.

Each casino must retain the original or a copy of each of the types of records outlined in 31 CFR 1021.410(b)(1)-(9), as described in additional detail in Section I above.

There are practical challenges to (i) determining the total number of deposits accepted, accounts opened, or lines of credit extended by each casino annually, and (ii) estimating how many records as described under 31 CFR 1021.410(b)(1)-(9) are generated by each casino each year. Because of these challenges, in the past, FinCEN has generally estimated the number of hours it would take for a casino to obtain and retain the records described in 31 CFR 1021.410(a) and 31 CFR 1021.410(b)(1)-(9) as being the same for every casino: 107.5 hours per casino.

(b) 31 CFR 1021.410(b)(11)

31 CFR 1021.410(b)(11) requires each card club ¹⁷ to document records of all currency transactions by customers and to retain the original or copy or reproduction of all currency transactions logs, multiple currency transaction logs, and cage control logs.

¹⁷ See supra note 8.

FinCEN does not have a way to estimate the number of cash transactions conducted annually per card club. In addition, FinCEN does not have a source to estimate the number of card clubs impacted by this regulation. For these reasons, in the past, FinCEN has estimated the total number of cash transactions conducted by card clubs, in total, annually and assessed a burden estimate of 5 minutes per transaction.

(c) 31 CFR 1021.410(c)

Pursuant to 31 CFR 1021.410(c), casinos must record any of the records required to be maintained under 31 CFR 1010.410 and 31 CFR 1021.410 on computer disk, tape, or other machine-readable media to retain those records in same format for five years.

The records required to be maintained under 31 CFR 1021.410 are described in more detail above.¹⁸ As noted above, FinCEN has no way to estimate the volume of transactions described in 31 CFR 1021.410 that are conducted annually by casinos. For that reason, in the past, FinCEN has generally estimated that the annual burden per casino to maintain such records in the format described in 31 CFR 1021.410(c) is the same for all casinos: 4 hours.

¹⁸ See supra note 9.

FinCEN's estimate of the traditional annual PRA burden, therefore, is 128,637 hours, as detailed in Table 2 below:

Table 2—Burden Associated With Each Portion of the Traditional Annual PRA Estimate
Action | Number of casinos or transactions (see Table 1) | Time | Total hourly burden
Complying with recordkeeping requirements under 31 CFR 1021.410(a) & (b)(1)-(9) | 993 | 107.5 hours per casino | * 106,748
Complying with recordkeeping requirements under 31 CFR 1021.410(b)(11) | 215,000 transactions conducted by card clubs in total ¹⁹ | 5 minutes per transaction | * 17,917
Complying with recordkeeping requirements under 31 CFR 1021.410(c) | 993 | 4 hours per casino | 3,972
Total Hourly Burden |  |  | 128,637
* 106,747.5 rounded to 106,748; 17,916.6 round to 17,917.

To calculate the hourly costs of the burden estimate, FinCEN identified six roles and corresponding staff positions involved in obtaining and maintain records as required by 31 CFR 1021.410: (i) General oversight (providing institution-level process approval); (ii) general supervision (providing process oversight); (iii) direct supervision (reviewing operational-level work and cross-checking all or a sample of the work product against supporting documentation); (iv) clerical work (engaging in research and administrative review, and recordkeeping); (v) legal compliance (ensuring the records are in legal compliance); and (vi) computer support (ensuring records can be properly stored and retrieved electronically if necessary).

¹⁹ FinCEN does not have a way to estimate the number of cash transactions conducted annually per card club. In addition, FinCEN does not have a source to estimate the number of card clubs impacted by this regulation. In the past FinCEN estimated the total number of cash transactions conducted by card clubs annually was 215,000. Because FinCEN does not have a reliable source to estimate the number of cash transactions conducted by card clubs annually, and we did not receive comments contradicting our estimate of 215,000 cash transactions in the last renewal of this regulation, we will continue to use this estimate as part of the traditional annual PRA burden estimate.

FinCEN calculated the fully-loaded hourly wage for each of these six roles by using the mean wage estimated by the U.S. Bureau of Labor Statistics (BLS),²⁰ and computing an additional benefits cost as follows:

²⁰ The U.S. Bureau of Labor Statistics, May 2020 OEWS National Industry-Specific Occupational Employment and Wage Estimates (bls.gov). The most recent data from the BLS corresponds to May 2020. For the benefits component of total compensation, see U.S. Bureau of Labor Statistics, “Table 9. Private industry workers, by major occupational group: employer costs per hour worked for employee compensation and costs as a percentage of total compensation”, available at Employer Costs for Employee Compensation Historical Tables—June 2021 (bls.gov). The ratio between benefits and wages for private industry workers is $10.83 (hourly benefits)/$25.80 (hourly wages) = 0.42, as of March 2021. The benefit factor is 1 plus the benefit/wages ratio, or 1.42. Multiplying each hourly wage by the benefit factor produces the fully-loaded hourly wage per position.

Table 3—Fully-Loaded Hourly Wage by Role and BLS Job Position for All Financial Institutions Covered by This Notice
Role | BLS-code | BLS-name | Mean hourly wage ²¹ | Benefit factor | Fully-loaded hourly wage
General oversight ²² | 11-1010 | Chief Executive ²³ | $107.12 | 1.42 | $152.11
General supervision | 11-3031 | Financial Manager | 74.59 | 1.42 | 105.92
Direct supervision | 13-1041 | Compliance Officer | 35.81 | 1.42 | 50.85
Clerical work (research, review, and recordkeeping) | 43-3099 | Financial Clerk | 23.27 | 1.42 | 33.04
Legal compliance | 23-1010 | Lawyers and Judicial Law Clerks | 85.66 | 1.42 | 121.64
Computer support | 11-3021 | Computer and Information Systems Managers | 77.77 | 1.42 | 110.43

FinCEN estimates that, in general and on average,²⁴ each role would spend different amounts of time on each portion of the traditional annual PRA burden, as follows:

²¹ For each occupation, FinCEN took the average of reported mean hourly wage across 9 affected financial industries (as measured at the most granular NAICS code available, whether at the 2, 3, 4 or 5 digit NAICS code; see the BLS May 2020 OEWS National Industry-Specific Occupational Employment and Wage Estimates (bls.gov)).

²² General oversight may include board of directors/trustees approval.

²³ Chief executive officer is the highest paid category in the BLS Occupational Employment Statistics. For that reason, FinCEN is conservatively estimating the highest wage rate available for its cost analysis.

²⁴ By “in general,” FinCEN means without regard to outliers (e.g., casinos that conducted transactions that warrant recordkeeping that are uncommonly higher or lower than those of the population at large). By “on average,” FinCEN means the mean of the distribution of each subset of the population.

Table 4—Weighted Average Hourly Cost of Obtaining and Maintaining the Records Required Under 31 CFR 1021.410
| Time (%) | Hourly cost
General Oversight | 16.67 | $25.35
General Supervision | 16.67 | 17.65
Direct Supervision | 16.67 | 8.48
Clerical Work | 16.67 | 5.51
Legal Compliance | 16.67 | 20.27
Computer Support | 16.67 | 18.41
Equal Weighted Average Hourly Cost |  | * 95.67
* $95.67 rounded to $96.00.

The total estimated cost of the traditional annual PRA burden is $12,349,152, as reflected in Table 5 below:

Table 5—Total Cost of Traditional Annual PRA Burden
Action | Hour burden | Hourly cost | Total cost
Complying with recordkeeping requirements under 31 CFR 1021.410(a) & (b)(1)-(9) | 106,748 | $96 | $10,247,808
Complying with recordkeeping requirements under 31 CFR 1021.410(b)(11) | 17,917 | 96 | 1,720,032
Complying with recordkeeping requirements under 31 CFR 1021.410(c) | 3,972 | 96 | 381,312
Total Cost |  |  | 12,349,152

Part 3. Supplemental Annual PRA Burden

In the future, FinCEN intends to add a supplemental annual PRA burden calculation that will include the estimated hourly burden and cost to comply with each type of recordkeeping requirement covered by the regulations being renewed. The future burden estimate will also include estimates of the number of transactions conducted annually by casinos that would trigger each recordkeeping requirement. In the future, FinCEN intends to obtain an estimate of the number of card clubs required to comply with 31 CFR 1021.410.

(a) 31 CFR 1021.410(a) and (b)(1)-(9) ²⁵

²⁵ See supra note 7.

As noted above, there are practical challenges to determining the total number of deposits accepted, accounts opened, or lines of credit extended by each casino annually. In addition, there are practical challenges in estimating how many records, as described under 31 CFR 1021.410(b)(1)-(9), are generated by each casino each year. In order to more accurately estimate the related PRA burden in the future, FinCEN intends to obtain a better understanding of the volume of deposits accepted, accounts opened, and lines of credit extended per casino and across the casino industry in total. In addition, FinCEN intends to obtain a better understanding of (i) the volume of records required to be made and retained under 31 CFR 1021.410(b)(1)-(9), and (ii) which of these records are required to be maintained exclusively for complying with the BSA, as opposed to complying with other regulatory requirements or for practical business purposes.

(b) 31 CFR 1021.410(b)(11)

As noted above, FinCEN does not have a way to estimate the number of cash transactions conducted annually per card club. In addition, FinCEN does not have a source to estimate the number of card clubs affected by this regulation. In order to more accurately estimate the related PRA burden in the future, FinCEN intends to obtain a better understanding of the volume of cash transactions conducted annually per card club and across the card club industry in total. In addition, FinCEN intends to obtain a better understanding of the population of card clubs required to comply with 31 CFR 1021.410.

(c) 31 CFR 1021.410(c)

As noted above, FinCEN has no way to determine the volume of transactions that would trigger one of the recordkeeping requirements under 31 CFR 1021.410, and of those transactions, how many would be retained on a computer disk, tape, or other machine-readable media. In the future, FinCEN intends to obtain a better understanding of the volume of transactions that would trigger the recordkeeping requirements in 31 CFR 1021.410 per casino, and across the casino industry. In addition, FinCEN intends to obtain a better understanding of how such records are stored and maintained, and the burden and cost associated with storage and maintenance of such records.

FinCEN does not have the necessary information to provide a tentative estimate for these supplemental PRA hourly burdens and costs within the current notice. In addition, FinCEN does not have all the necessary information to precisely estimate the traditional annual PRA burden. For that reason, FinCEN is relying on estimates used in prior renewals of this OMB control number and the applicable regulations. FinCEN further recognizes that after receiving public comments as a result of this notice, future traditional annual PRA hourly burden and cost estimates may vary significantly. FinCEN intends to conduct more granular studies of the actions included in the proposed scope of the supplemental annual PRA burden in the near future, to arrive at more precise estimates of net BSA hourly burden and cost.²⁶ The data obtained in these studies also may result in a significant variation of the estimated traditional annual PRA burden.

²⁶ Net hourly burden and cost are the burden and cost a financial institution incurs to comply with requirements that are unique to the BSA, and that do not support any other business purpose or regulatory obligation of the financial institution. Burden for purposes of the PRA does not include the time and financial resources needed to comply with an information collection, if the time and resources are for things a business (or other person) does in the ordinary course of its activities if the agency demonstrates that the reporting activities needed to comply are usual and customary. 5 CFR 1320.3(b)(2). For example, depending on the nature of the casino's transactions and accounts, the casino may be collecting and maintaining some of the same information in order to satisfy other obligations including (i) protecting the casino from fraud against itself or its customers, (ii) complying with other non-BSA regulatory requirements, or (iii) improving the casino's marketing efforts.

Estimated Number of Respondents: 993, as set out in Table 1.²⁷

²⁷ Because FinCEN does not have a reliable source to estimate the number of card clubs that would be impacted by this regulation, the estimated number of respondents only includes casinos as set out in Table 1.

Estimated Total Annual Recordkeeping Burden: The estimated total annual PRA burden is 128,637 hours, as set out in Table 2.

Estimated Total Annual Recordkeeping Cost: The estimated total annual PRA cost is $12,349,152 as set out in Table 5.

An Agency may not conduct or sponsor, and a person is not required to respond to, a collection of information unless the collection of information displays a valid OMB control number. Records required to be retained under the BSA must be retained for five years.

Part 4. Request for Comments

(a) Specific request for comments on the traditional annual PRA hourly burden and cost.

FinCEN invites comments on any aspect of the traditional annual PRA burden, as set out in Part 2 of this notice. In particular, FinCEN seeks comments on the adequacy of: (i) FinCEN's assumptions underlying its estimate of the burden; (ii) the estimated number of hours required by each portion of the burden; and (iii) the organizational levels of the casinos engaged in each portion of the burden, their estimated hourly remuneration, and the estimated proportion of participation by each role. FinCEN encourages commenters to include any publicly available sources for alternative estimates or methodologies.

(b) Specific request for comments on the proposed criteria for determining the scope of a supplemental annual PRA hourly burden and cost estimate.

FinCEN invites comments on any aspect of the criteria for a future estimate of the supplemental annual PRA burden, as set out in Part 3 of this notice.

(c) Specific request for comments on the appropriate criteria and methodology required to obtain information to more precisely estimate the supplemental annual PRA hourly burden and cost.

FinCEN invites comments on the most appropriate and comprehensive way to ask casinos about the annual hourly burden and cost attributable solely to the regulations covered by this notice (i.e., the hourly burden and cost of complying with the recordkeeping requirements imposed exclusively by the BSA, which are not used to satisfy contractual obligations, other regulatory requirements, or business purposes of the casino).

The supplemental annual PRA hourly burden and cost estimate of the recordkeeping necessary to comply with the additional recordkeeping requirements for casinos must take into consideration the information collected and recorded that is used exclusively for complying with requirements under 31 CFR 1021.410. Given the complexity in determining what portion of the effort to include in the estimate, FinCEN seeks comments from the public regarding any questions we should consider posing in future notices, in addition to the specific questions for comment outlined directly below. Also, due to the evident difficulty involved in estimating the number of transaction accounts, lines of credit, and transactions that trigger recordkeeping requirements as described in this notice FinCEN welcomes any suggestions as to how to derive these estimates by using publicly available financial information.

(d) Specific questions for comment associated with making and retaining the records required by the regulations described in this notice (if the commenter is a casino or card club, FinCEN asks that the comment provide information particular to that casino or card club): ²⁸

²⁸ Comments submitted in response to this notice will become a matter of public record. Therefore, commenters should submit only information that can be made publicly available.

(1) Complying With 31 CFR 1021.410(a)

• On average, how many deposits of funds does a casino accept annually?

• On average, how many accounts does a casino open annually?

• On average, how many lines of credit does a casino extend annually?

• On average, how long does it take a casino to collect, verify, and retain the records required to be maintained when it accepts a deposit, opens an account, or extends a line of credit?

(2) Complying With 31 CFR 1021.410(b)(1)-(9)

• On average, how often does a casino conduct each of the transactions described in 31 CFR 1021.410(b), as explained in further detail in Section I above?

• On average, how long does it take a casino to collect and retain the records required to be maintained when it conducts one of the transactions described in 31 CFR 1021.410(b)?

• How many of the records required to be made and retained under 31 CFR 1021.410(b) does a casino make and retain exclusively to comply with the BSA? How many of these records does a casino make and retain for other business or regulatory purposes, and what are those purposes?

(3) Complying With 31 CFR 1021.410(b)(11)

• Is there a public source that FinCEN can utilize to estimate the number of card clubs required to comply with 31 CFR 1021.410?

• On average, how many cash transactions are conducted annually by a card club?

• Are the records required to be maintained under 31 CFR 1021.410(b)(11) recorded and maintained exclusively to comply with the BSA, or does a card club make and retain any of these records for other business or regulatory purposes? If so, what are those purposes?

(4) Complying With 31 CFR 1021.410(c)

• On average, how long does it take a casino to input and retain the records required to be maintained by 31 CFR 1021.410 on computer disk, tape, or other machine-readable media, if a casino retains the required records in such a format?

• On average, what are the estimated costs for a casino to retain all of the records described in 31 CFR 1021.410 on computer disk, tape, or other machine-readable media for a period of five years?

(e) General request for comments.

Comments submitted in response to this notice will be summarized and/or included in the request for OMB approval. All comments will become a matter of public record. Comments are invited on: (i) Whether the collection of information is necessary for the proper performance of the functions of the agency, including whether the information shall have practical utility; (ii) the accuracy of the agency's estimate of the burden of the collection of information; (iii) ways to enhance the quality, utility, and clarity of the information to be collected; (iv) ways to minimize the burden of the collection of information on respondents, including through the use of automated collection techniques or other forms of information technology; and (v) estimates of capital or start-up costs and costs of operation, maintenance, and purchase of services to provide information.

Himamauli Das,
Acting Director, Financial Crimes Enforcement Network.

[FR Doc. 2022-03260 Filed 2-15-22; 8:45 am]

BILLING CODE 4810-02-P